DEPARTMENT OF THE INTERIOR

National Park Service

National Register of Historic Places; Notification of Pending Nominations

Nominations for the following properties being considered for listing in the National Register were received by the National Park Service before July 24, 2004. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St., NW., 8th floor, Washington DC 20005; or by fax, (202) 371-6447. Written or faxed comments should be submitted by September 4, 2004.

Carol D. Shull,
Keeper of the National Register of Historic Places.

ALABAMA

Crenshaw County

Luverne Historic District, Bounded by 1st, 6th Sts., Legrande, Glenwood, Folmar and Hawkins Aves., Luverne, 04000926.

Jackson County

Princeton Historic District, (Paint Rock Valley MPS), Bounded by AL 65 and Cty. Rd. 3, Princeton, 04000927.

Mobile County

Chickasaw Shipyard Village Historic District, Bounded by Jefferson St., Jackson St., Yeend Ave., and Chickasaw Creek, Chickasaw, 04000924.

D'Iberville Apartments, 2000 Spring Hill Ave., Mobile, 04000925.

CALIFORNIA

Tuolumne County

Baker Highway Maintenance Station, 33950 CA 108, Strawberry, 04000928.

GEORGIA

DeKalb County

Scottish Rite Hospital for Crippled Children, 321 W. Hill St., Decatur, 04000929.

Talbot County

Elms, The, GA 36 at Sun Rise Rd. or Red Bone Rd., near Pleasant Hill, 3 mi. E of Woodland, Woodland, 04000930.

MASSACHUSETTS

Berkshire County

Elm-Maple-South Streets Historic District, 2 Depot St., 2-14 Elm St., 1-2 Larel Ln., 1-4 Maple St., 1-11 South St., Stockbridge, 04000932.

Hampden County

Prospect Park, Maple St., Arbor Way, Connecticut R, Holyoke, 04000931.

Middlesex County

Brigham Cemetery, off W. Main St. near Crescent St., Marlborough, 04000933.

Weeks Cemetery, Corner of Sudbury St. and Concord Rd., Marlborough, 04000934.

NEVADA

Clark County

Gold Strike Canyon—Sugarloaf Mountain Traditional Cultural Property, Address Restricted, Boulder City, 04000935.

NEW YORK

Saratoga County

Ruhle Road Lenticular Metal Truss Bridge, Ruhle Rd. over Ballston Creek, Malta, 04000954.

NORTH CAROLINA

Caldwell County

Dula—Horton Cemetery, End of an 0.25 mile Ln, off S side of NC 268, 1.4 mi. E of jct. with Grandin Rd., Grandin, 04000941.

Fountain, The, 1677 NC 268, Yadkin Valley, 04000942.

Lenoir, Walter James, House, NC 268, 0.3 mi. E of jct. with NC 1513, Yadkin Valley, 04000938.

Mariah's Chapel, NC 1552, 0.4 mi. SE of jct with NC 268, Grandin, 04000939.

Riverside, SW side NC 1552, 0.3 mi. SE of jct with NC 268, Grandin, 04000940.

OHIO

Cuyahoga County

Cleveland Dental Manufacturing Company Building, 3307 Scranton Rd., Cleveland, 04000936.

Ross County

McCafferty Run Farmstead, 17114 and 17226 OH 104, Chillocothe, 04000945.

OKLAHOMA

Custer County

McLain Rogers Park, Jct. of Tenth and Bess Rogers Dr., Clinton, 04000944.

Muskogee County

USS Batfish (SS-310), 3500 Batfish Rd., Muskogee, 04000943.

Tulsa County

Riverside Historic Residential District, Roughly bounded by the Midland Railway Bike Trail, Riverside Dr., S. Boston Ave., and E. 24th St. and E 21st St., Tulsa, 04000937.

TEXAS

Cottle County

Cottle County Courthouse Historic District, Roughly bounded by N. 7th, N. 10th, Garrett and Easly Sts., Paducah, 04000948.

Navarro County

Navarro County Courthouse, 300 W. 3rd Ave., Corsicana, 04000947.

Trinity County

Trinity County Courthouse Square, 162 W. First St., U.S. 287 at TX 94, Groveton, 04000946.

WASHINGTON

Chelan County

Wenatchee Fire Station #1, 136 S. Chelan Ave., Wenatchee, 04000953.

Spokane County

Five Mile Prairie School, (Rural Public Schools of Washington State MPS) 8621 N. Five Mile Rd., Spokane, 04000952.

WISCONSIN

Clark County

Neillsville Downtown Historic District (Boundary Increase), 432, 436, 442, 450 Hewett St., Neillsville, 04000951.

Eau Claire County

Eau Claire Park Company Addition Historic District, Roosevelt, McKinley, and Garfield bet. Park Ave. and State St., Eau Claire, 04000950.

Third Ward Historic District (Boundary Increase), Approx. seven blks in the Third Ward bounded by St. St., Summit Ave., Farwell St. and Garfield Ave., Eau Claire, 04000949.

A request for removal has been made for the following resource:

NEW YORK

Saratoga County

Ruhle Road Stone Arch Bridge Ruhle Rd. Malta, 88001699.

[FR Doc. 04-19056 Filed 8-18-04; 8:45 am]

BILLING CODE 4312-51-P